DEPARTMENT OF TRANSPORTATION

Federal Aviation Administration

14 CFR Part 95

[Docket No.30913; Amdt. No. 508]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, August 22, 2013.

FOR FURTHER INFORMATION CONTACT: Rick Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on July 19, 2013.
John M. Allen,
Deputy Director, Flight Standards Service.

Adoption of the Amendment

Accordingly, pursuant to the authority delegated to me by the Administrator, part 95 of the Federal Aviation Regulations (14 CFR part 95) is amended as follows effective at 0901 UTC, August 22, 2013.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 508 Effective Date August 22, 2013]
From | To | MEA | MAA
§ 95.3000 Low Altitude RNAV Routes
§ 95.3291 RNAV Route T291 Is Added To Read
LOUIE, MD FIX | BAABS, MD WP | *5000 | 11000
*1800—MOCA
BAABS, MD WP | HARRISBURG, PA VORTAC | *5000 | 11000
*3000—MOCA
§ 95.3295 RNAV Route T295 Is Added To Read
LOUIE, MD FIX | BAABS, MD WP | *5000 | 11000
*1800—MOCA
BAABS, MD WP | LANCASTER, PA VORTAC | *5000 | 11000
*2400—MOCA
§ 95.4000 High Altitude RNAV Routes
§ 95.4035 RNAV Route Q35 Is Amended To Read in Part
NEERO, NV WP | KOATA, OR WP | *29000 | 45000
*18000—GNSS MEA
*DME/DME/IRU MEA
KOATA, OR WP | KIMBERLY, OR VORTAC | *29000 | 45000
*18000—GNSS MEA
*DME/DME/IRU MEA
§ 95.4068 RNAV Route Q68 Is Added To Read
CHARLESTON, WV VORTAC | TOMCA, WV WP | *18000 | 45000
*18000—GNSS MEA
*DME/DME/IRU MEA
TOMCA, WV WP | RONZZ, WV WP | *18000 | 45000
*18000—GNSS MEA
*DME/DME/IRU MEA
RONZZ, WV WP | HHOLZ, WV WP | *18000 | 45000
*18000—GNSS MEA
*DME/DME/IRU MEA
HHOLZ, WV WP | HAMME, WV WP | *18000 | 45000
*18000—GNSS MEA
*DME/DME/IRU MEA
HAMME, WV WP | CAPOE, VA WP | *18000 | 45000
*18000—GNSS MEA
*DME/DME/IRU MEA
CAPOE, VA WP | OTTTO, VA WP | *18000 | 45000
*18000—GNSS MEA
*DME/DME/IRU MEA
§ 95.4072 RNAV Route Q72 Is Added To Read
HACKS, WV FIX | GEQUE, WV WP | *18000 | 45000
*18000—GNSS MEA
*DME/DME/IRU MEA
GEQUE, WV WP | BENSH, WV WP | *18000 | 45000
*18000—GNSS MEA
*DME/DME/IRU MEA
BENSH, WV WP | RAMAY, VA WP | *18000 | 45000
*18000—GNSS MEA
*DME/DME/IRU MEA
§ 95.4080 RNAV Route Q80 Is Added To Read
FAREV, KY WP | JEDER, KY WP | *18000 | 18000
*18000—GNSS MEA
*DME/DME/IRU MEA
JEDER, KY WP | ENGRA, KY WP | *18000 | 45000
*18000—GNSS MEA
*DME/DME/IRU MEA
ENGRA, KY WP | DEWAK, KY WP | *18000 | 45000
*18000—GNSS MEA
*DME/DME/IRU MEA
DEWAK, KY WP | CEGMA, KY WP | *18000 | 45000
*18000—GNSS MEA
*DME/DME/IRU MEA
CEGMA, KY WP | JONEN, KY WP | *18000 | 45000
*18000—GNSS MEA
*DME/DME/IRU MEA
JONEN, KY WP | BULVE, WV WP | *18000 | 45000
*18000—GNSS MEA
*DME/DME/IRU MEA
BULVE, WV WP | WISTA, WV WP | *18000 | 45000
*18000—GNSS MEA
*DME/DME/IRU MEA
WISTA, WV WP | LEVII, WV WP | *18000 | 45000
*18000—GNSS MEA
*DME/DME/IRU MEA
LEVII, WV WP | RONZZ, WV WP | *18000 | 45000
*18000—GNSS MEA
*DME/DME/IRU MEA
RONZZ, WV WP | HHOLZ, WV WP | *18000 | 45000
*18000—GNSS MEA
*DME/DME/IRU MEA
HHOLZ, WV WP | HAMME, WV WP | *18000 | 45000
*18000—GNSS MEA
*DME/DME/IRU MEA
HAMME, WV WP | CAPOE, VA WP | *18000 | 45000
*18000—GNSS MEA
*DME/DME/IRU MEA
CAPOE, VA WP | OTTTO, VA WP | *18000 | 45000
*18000—GNSS MEA
*DME/DME/IRU MEA

From | To | MEA
§ 95.6001 Victor Routes—U.S
§ 95.6009 VOR Federal Airway V9 Is Amended To Read in Part
MC COMB, MS VORTAC | *ROMAR, MS FIX | 2300
*4000—MRA
*ROMAR, MS FIX | MAGNOLIA, MS VORTAC | 2300
*4000—MRA
MAGNOLIA, MS VORTAC | SIDON, MS VORTAC | 2000
§ 95.6011 VOR Federal Airway V11 Is Amended To Read in Part
GREENE COUNTY, MS VORTAC | MIZZE, MS FIX | *4000
*1900—MOCA
*3000—GNSS MEA
MIZZE, MS FIX | MAGNOLIA, MS VORTAC | *3000
*2400—MOCA
MAGNOLIA, MS VORTAC | SIDON, MS VORTAC | 2000
§ 95.6012 VOR Federal Airway V12 Is Amended To Read in Part
HARRISBURG, PA VORTAC | KUPPS, PA FIX | 3100
KUPPS, PA FIX | BOYER, PA FIX | #000
#UNUSABLE
BOYER, PA FIX | POTTSTOWN, PA VORTAC | *3000
*2400—MOCA
§ 95.6014 VOR Federal Airway V14 Is Amended To Read in Part
*FLATT, TX FIX | SHALO, TX FIX | 5200
*8000—MRA
§ 95.6018 VOR Federal Airway V18 Is Amended To Read In Part
MONROE, LA VORTAC | MAGNOLIA, MS VORTAC | 2000
MAGNOLIA, MS VORTAC | MERIDIAN, MS VORTAC | 2500
§ 95.6062 VOR Federal Airway V62 Is Amended To Read in Part
FLECK, TX FIX | GEENI, TX FIX | *4000
*3500—MOCA
§ 95.6071 VOR Federal Airway V71 Is Amended To Read in Part
*WRACK, LA FIX | NATCHEZ, MS VOR/DME | **3500
*4000—MRA
**2200—MOCA
**2200—GNSS MEA
§ 95.6074 VOR Federal Airway V74 Is Amended To Read in Part
GREENVILLE, MS VOR/DME | MAGNOLIA, MS VORTAC | 2000
§ 95.6083 VOR Federal Airway V83 Is Amended To Read in Part
GOSIP, CO FIX | PUEBLO, CO VORTAC | 8700
§ 95.6121 VOR Federal Airway V121 Is Amended To Read in Part
DOSEE, OR FIX | *VIDAS, OR FIX |
| NE BND | 8000
| SW BND | 6000
*9300—MCA VIDAS, OR FIX, NE BND
VIDAS, OR FIX | *WHIFF, OR FIX |
| NE BND | **13000
| SW BND | **9000
*12000—MCA WHIFF, OR FIX, NE BND
**7500—MOCA
**8000—GNSS MEA
WHIFF, OR FIX | SNOKY, OR FIX | *13000
*12300—MOCA
§ 95.6198 VOR Federal Airway V198 Is Amended To Read in Part
JUNCTION, TX VORTAC | SAN ANTONIO, TX VORTAC | 4100
§ 95.6245 VOR Federal Airway V245 Is Amended To Read in Part
NATCHEZ, MS VOR/DME | MAGNOLIA, MS VORTAC | 3500
MAGNOLIA, MS VORTAC | BIGBEE, MS VORTAC | *5000
*2000—MOCA MAA—17500
*3000—GNSS MEA
§ 95.6417 VOR Federal Airway V417 Is Amended To Delete
MONROE, LA VORTAC | *BOLTS, MS FIX | **5000
*3400—MRA
**1900—MOCA
BOLTS, MS FIX | JACKSON, MS VORTAC | 2000
JACKSON, MS VORTAC | *FANEN, MS FIX | **3000
*3300—MRA
**2000—MOCA
FANEN, MS FIX | MERIDIAN, MS VORTAC | 3000
§ 95.6427 VOR Federal Airway V427 Is Amended To Delete
MONROE, LA VORTAC | *PECKS, MS FIX | **5000
*2800—MRA
**1900—MOCA
**2000—GNSS MEA
PECKS, MS FIX | JACKSON, MS VORTAC | #2000
#JACKSON R-281 UNUSABLE BEYOND 40 NM
§ 95.6500 VOR Federal Airway V500 Is Amended To Read in Part
GLARA, OR FIX | HARZL, OR FIX |
| W BND | *7200
| E BND | *10000
*6700—MOCA
*7000—GNSS MEA
§ 95.6537 VOR Federal Airway V537 Is Amended To Delete
GREENVILLE, FL VORTAC | MOULTRIE, GA VOR/DME | *5000
*1600—MOCA
*2000—GNSS MEA
MOULTRIE, GA VOR/DME | MACON, GA VORTAC | *3000
*2400—MOCA
§ 95.6555 VOR Federal Airway V555 Is Amended To Delete
MC COMB, MS VORTAC | *BANDO, MS FIX | 2100
*3400—MRA
BANDO, MS FIX | JACKSON, MS VORTAC | 2000
JACKSON, MS VORTAC | *VAHNS, MS FIX | 2000
*3500—MRA
VAHNS, MS FIX | SIDON, MS VORTAC | 2000
§ 95.6557 VOR Federal Airway V557 Is Amended To Delete
MC COMB, MS VORTAC | *BYRAM, MS FIX | 2900
*4200—MRA
*BYRAM, MS FIX | JACKSON, MS VORTAC | 2900
*4200—MRA
JACKSON, MS VORTAC | SIDON, MS VORTAC | 2000
§ 95.6611 VOR Federal Airway V611 Is Amended To Read in Part
GOSIP, CO FIX | PUEBLO, CO VORTAC | 8700
*LIMEX, CO FIX | GILL, CO VOR/DME | 7900
*10000—MRA
§ 95.6440 Alaska VOR Federal Airway V440 Is Amended To Read in Part
CENTA, AK FIX | SALIS, AK FIX | #*9000
*2000—MOCA
#MEA IS ESTABLISHED WITH A GAP IN NAVIGATION SIGNAL COVERAGE.

From | To | MEA | MAA
§ 95.7001 Jet Routes
§ 95.7004 Jet Route J4 Is Amended To Read in Part
BELCHER, LA VORTAC | MAGNOLIA, MS VORTAC | 18000 | 45000
MAGNOLIA, MS VORTAC | MERIDIAN, MS VORTAC | 18000 | 45000
§ 95.7020 Jet Route J20 Is Amended To Read in Part
BELCHER, LA VORTAC | MAGNOLIA, MS VORTAC | 18000 | 45000
MAGNOLIA, MS VORTAC | MERIDIAN, MS VORTAC | 18000 | 45000

Airway Segment: From | Airway Segment: To | Changeover Points: Distance | Changeover Points: From
§ 95.8003 VOR Federal Airway Changeover Point V198 Is Amended To Delete Changeover Point
JUNCTION, TX VORTAC | SAN ANTONIO, TX VORTAC | 51 | JUNCTION
Alaska V440 Is Amended To Add Changeover Point
YAKUTAT, AK VOR/DME | BIORKA ISLAND, AK VORTAC | 108 | YAKUTAT
BIORKA ISLAND, AK VORTAC | SANDSPIT, CA VOR/DME | 134 | BIORKA ISLAND

[FR Doc. 2013-17841 Filed 7-24-13; 8:45 am]

BILLING CODE 4910-13-P